DEPARTMENT OF THE TREASURY

Departmental Offices; Proposed Collection; Comment Request

AGENCY: Departmental Offices, Department of the Treasury.

ACTION: Notice and request for comments.

SUMMARY: The Department of the Treasury, as part of its continuing effort to reduce paperwork and respondent burden, invites the general public and other Federal agencies to comment on proposed and/or continuing information collections; as required by the Paperwork Reduction Act of 1995, Public Law 104-13 (44 U.S.C. 3506(c)(2)(A)). Currently, the Department of the Treasury is soliciting comments concerning the Terror Risk Insurance Survey.

DATES: Written comments should be received on or before March 8, 2003 to be assured of consideration.

ADDRESSES: Submit comments (if hard copy, preferably an original and two copies) to Lucy Huffman, Office of Economic Policy, Department of the Treasury, 1500 Pennsylvania Ave., NW., Washington, DC 20220. Because paper mail in the Washington, DC area may be subject to delay, it is recommended that comments be submitted by electronic mail to: surveycomments@do.treas.gov. All comments should be captioned with “Terror Risk Insurance Survey Comments.” Please include your name, affiliation, address, email, address and telephone number in your comment. Comments will be available for public inspection by appointment only at the Reading Room of the Treasury Library. To make appointments, call (202) 622-0990 (not a toll-free number).

FOR FURTHER INFORMATION CONTACT: Linda Moeller, Economist, Office of Economic Policy, 202-622-0474, at Linda.Moeller@do.treas.gov; or Lucy Huffman, Economist, Office of Economic Policy, 202-622-0198, at Lucy.Huffman@do.treas.gov.

SUPPLEMENTARY INFORMATION:

Title: Terror Risk Insurance Survey.

Abstract: Section 108(d) of the Terrorism Risk Insurance Act of 2002 (Pub. L. 107-297) (TRIA) requires the Secretary of the Treasury (Treasury) to assess the effectiveness of the Terrorism Risk Insurance Program (Program) established under TRIA and the likely capacity of the property and casualty insurance industry to offer insurance for terrorism risk after termination of the Program in 2005, and the availability and affordability of such insurance for various policyholders, including railroads, trucking and public transit. To help carry out this charge, Treasury will implement a broad national multi-period survey of the availability and price of terrorism risk coverage. The survey will collect data on terrorism risk coverage in worker's compensation, commercial property, and other casualty insurance included under TRIA and data on reinsurance for terrorism risk.

Current Actions: The survey data will be collected in three waves. The first wave of data collection is being undertaken during the fall and winter of 2003 on the basis of an emergency information collection submission (OMB number 1505-0193). The second and third waves will be collected in early 2004 and 2005, respectively.

Pursuant to the Confidential Information Protection and Statistical Efficiency Act of 2002, Pub. L. 107-347, 116 Stat. 2962, codified at 44 U.S.C. 3501, the data collected for this project shall be used for exclusively statistical purposes, that is, for “* * * the description, estimation, or analysis of the characteristics of groups, without identifying the individuals or organizations that comprise such groups” The data shall be gathered at arm's length from the Government. The survey contractor, Westat, shall assemble the data into nationally representative sets of longitudinal micro data in conformity with OMB and Treasury data quality standards. The Contractor pledges to Treasury and to survey respondents that they will safeguard the confidentiality of survey responses. No individual company will be identified, directly or indirectly, in reports or publications.

Type of Review: New.

Affected Public: Business or other for-profit/Not-for-profit institutions/Farms/State Local or Tribal Government.

Estimated Number or Respondents: 10,350.

Estimated Total Annual Burden Hours: 13,500 hours.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; and (d) ways to minimize the burden of the collection of information on respondents, including through the use of automated collection techniques or other forms of information technology.

Dated: December 31, 2003.
Mark Warshawsky,
Acting Assistant Secretary for Economic Policy, U.S. Treasury Department.

[FR Doc. 04-205 Filed 1-5-04; 8:45 am]

BILLING CODE 4810-25-M